DEPARTMENT OF TRANSPORTATION

Federal Aviation Administration

Notice of Availability of Draft Written Reevaluation and Request for Comments

AGENCY: Federal Aviation Administration, DOT.

ACTION: Notice.

SUMMARY: The Federal Aviation Administration (FAA) announces the availability of a Draft Written Reevaluation of environmental impacts of a proposed centerfield taxiway at Boston-Logan International Airport, Boston, Massachusetts. FAA also announces that it will consider comments on the Draft Written Reevaluation until August 21, 2006.

FOR FURTHER INFORMATION CONTACT: John C. Silva, Federal Aviation Administration, New England Region, Airports Division, ANE-600, 12 New England Executive Park, Burlington, Massachusetts 01803.

SUPPLEMENTARY INFORMATION: On August 2, 2002, FAA issued Record of Decision; Airside Improvements Planning Project; Logan International Airport; Boston, Massachusetts. This Record of Decision covered projects proposed by the Massachusetts Port Authority and environmentally assessed in an Environmental Impact Statement of the Airside Improvements Planning Project. FAA approved the following projects: (1) Construction and operation of unidirectional Runway 14-32, (2) reconfiguration of the southwest corner taxiway system, (3) extension of Taxiway Delta, and (4) realignment of Taxiway November. FAA deferred a decision concerning the Centerfield Taxiway until FAA conducted an additional evaluation of potential beneficial operational procedures that would preserve or improve the operational and environmental benefits of the Centerfield Taxiway shown in the Final EIS. This additional evaluation was completed with the publication of Logan International Airport; Additional Taxiway Evaluation Report; Per FAA, August 2, 2002, Record of Decision; May 2006; and this draft written reevaluation. The taxiway evaluation report and Draft Written Reevaluation are available on request (781-238-7602) or on FAA's public Web site (http://www.faa.gov/airports_airtraffic). FAA is accepting comments on the Draft Written Reevaluation until August 21, 2006. Comments should be mailed to FAA at the above address under the heading: for further information contact. Questions may be directed to this address or by telephoning John Silva at 781-238-7602.

Issued in Burlington, Massachusetts, on July 6, 2006.
LaVerne F. Reid,
Manager, Airports Division.

[FR Doc. 06-6701 Filed 8-3-06; 8:45 am]

BILLING CODE 4910-13-M